DEPARTMENT OF COMMERCE

National Oceanic and Atmospheric Administration

[RTID 0648-XB718]

Marine Mammals and Endangered Species

AGENCY: National Marine Fisheries Service (NMFS), National Oceanic and Atmospheric Administration (NOAA), Commerce.

ACTION: Notice; issuance of permits and permit amendments.

SUMMARY: Notice is hereby given that permits and permit amendments have been issued to the following entities under the Marine Mammal Protection Act (MMPA) and the Endangered Species Act (ESA), as applicable.

ADDRESSES: The permits and related documents are available for review upon written request via email to NMFS.Pr1Comments@noaa.gov.

FOR FURTHER INFORMATION CONTACT: Jennifer Skidmore (Permit No. 25794), Sara Young (Permit No. 18059-01), and Shasta McClenahan, Ph.D. (Permit No. 18786-06); at (301) 427-8401.

SUPPLEMENTARY INFORMATION: Notices were published in the Federal Register on the dates listed below that requests for a permit or permit amendment had been submitted by the below-named applicants. To locate the Federal Register notice that announced our receipt of the application and a complete description of the activities, go to www.federalregister.gov and search on the permit number provided in Table 1 below.

Table 1—Issued Permits and Permit Amendments
Permit No. | RTID | Applicant | Previous Federal Register Notice | Issuance date
18059-01 | 0648-XF085 | David Wiley, Ph.D., Stellwagen Bank National Marine Sanctuary, 175 Edward Foster Rd, Scituate, MA 02006 | 82 FR 16998; April 7, 2017 | December 13, 2021.
18786-06 | 0648-XA941 | NMFS Office of Protected Resources, Marine Mammal Health and Stranding Response Program, 1315 East West Highway, Silver Spring, MD 20910 (Responsible Party: Teri Rowles, D.V.M., Ph.D.) | 86 FR 14612; March 17, 2021 | December 21, 2021.
25794 | 0648-XB460 | Jennifer Burns, Ph.D., Texas Tech University, Biology Department, 2901 Main Street, Lubbock, TX 79409 | 86 FR 54940; October 5, 2021 | December 13, 2021.

In compliance with the National Environmental Policy Act of 1969 (42 U.S.C. 4321 et seq.), for Permit Nos. 18059-01 (one year extension) and 25794, a final determination has been made that the activities proposed are categorically excluded from the requirement to prepare an environmental assessment or environmental impact statement.

For Permit No. 18786-06, an environmental assessment (EA) was prepared for the original permit (No. 18786) in compliance with the National Environmental Policy Act of 1969 (42 U.S.C. 4321 et seq.), to examine whether significant environmental impacts could result from issuance of the proposed scientific research permit. Based on the analyses in the EA, NMFS determined that issuance of the permit would not significantly impact the quality of the human environment and that preparation of an environmental impact statement was not required. That determination is documented in a Finding of No Significant Impact (FONSI), signed on June 29, 2015. The activities in this proposed amendment are consistent with the analyses in the original EA and no additional NEPA analysis is required for the issuance of this amendment. The original EA and FONSI are available upon request.

As required by the ESA, as applicable, issuance of these permit was based on a finding that such permits: (1) Were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: January 6, 2022.
Julia M. Harrison,
Chief, Permits and Conservation Division, Office of Protected Resources, National Marine Fisheries Service.

[FR Doc. 2022-00294 Filed 1-10-22; 8:45 am]

BILLING CODE 3510-22-P